DEPARTMENT OF ENERGY

Los Alamos Area Office, National Nuclear Security Administration; Notice of Floodplain Involvement for the Wildfire Hazard Reduction and Forest Health Improvement Program Projects at Los Alamos National Laboratory, Los Alamos, NM

AGENCY: National Nuclear Security Administration, Los Alamos Area Office, DOE.

ACTION: Notice of floodplain involvement.

SUMMARY: The National Nuclear Security Administration (NNSA) of the Los Alamos Area Office at the Department of Energy (DOE) plans to implement individual projects using mechanical and manual thinning methods to treat the forests at Los Alamos National Laboratory (LANL) in an effort to reduce fuel loading and wildfire hazards, and to improve the overall forest health. These ecosystem-based management program projects will be implemented over the next 18 to 36 months, or until completed, and will be followed by periodic maintenance projects to retain the desired end-state for wildfire risk reduction with enhancements to improve forest health. The projects will include construction of access roads and fuel breaks as treatment measures. Wood materials generated by the treatment measures will be either donated or salvaged; wood waste materials will primarily be disposed of through chipping and use on-site or by burning in pits with the use of an air curtain destructor. Implementation of these projects will include areas of forest located on mesa tops, along canyon sides, and in canyon bottoms, including floodplain areas (but excluding wetland areas), located within the Los Alamos National Laboratory (LANL) boundaries in Los Alamos and Santa Fe Counties, New Mexico. In accordance with 10 CFR part 1022, DOE will prepare a floodplain assessment and will perform this proposed action in a manner so as to avoid or minimize potential harm to or within the affected floodplain.

DATES: Comments are due to the address below no later than July 16, 2001.

ADDRESSES: Written comments should be addressed to: Elizabeth Withers, Department of Energy, National Nuclear Security Administration, Los Alamos Area Office, 528 35th Street, Los Alamos, NM 87544, or submit them to the Mail Room at the above address between the hours of 8:00 am and 4:30 p.m., Monday through Friday. Written comments may also be sent electronically to: ewithers@doeal.gov or by facsimile to (505) 667-9998.

FOR FURTHER INFORMATION CONTACT: Everett Trollinger, Department of Energy, National Nuclear Security Administration, Los Alamos Area Office, 528 35th Street, Los Alamos, NM 87544. Telephone (505) 667-0281, facsimile (505) 667-9998.

For Further Information on General DOE Floodplain Environmental Review Requirements, contact: Carol M. Borgstrom, Director, Office of NEPA Policy and Compliance, EH-42, Department of Energy, 100 Independence Avenue, S.W., Washington DC 20585-0119. Telephone (202) 586-4600 or (800) 472-2756, facsimile (202) 586-7031.

SUPPLEMENTARY INFORMATION: On August 9, 2000, the NNSA issued a Finding of No Significant Impact (FONSI) for the Proposed Action (the No Burn Alternative) together with the Final Environmental Assessment for the Wildfire Hazard Reduction and Forest Health Improvement Program at Los Alamos National Laboratory, Los Alamos, New Mexico (DOE/EA 1329). More recently, on May 29, 2001, the NNSA issued a FONSI for the Limited Burn Alternative (Waste Only) analyzed in DOE/EA 1329. The NNSA now plans on implementing the actions described in the Limited Burn Alternative of DOE/EA 1329 beginning in July 2001. Up to an estimated 10,000 acres (ac) (4,000 hectares (ha)), or about 35 percent of LANL, will be treated over the next 18 to 36 months or until completed. Implementation of program projects will include areas of forest located on mesa tops, along canyon sides, and in canyon bottoms, including floodplain areas (but excluding wetland areas), located within LANL boundaries in Los Alamos and Santa Fe Counties, New Mexico. The treatment of LANL forested areas will include the use of mechanical thinning and thinning with hand-held tools and equipment.

The program projects will be composed of a series of strategically planned projects implemented in three phases. The phases are as follows: Phase 1 (high priority strategic projects, primarily fuel breaks, in heavily forested urban interface areas to reduce the wildfire hazard to the pubic, LANL employees, and key facilities and infrastructure); Phase 2 ( moderate priority, larger forest fuels reduction projects in heavily forested areas to reduce the general wildfire hazard and improve forest health); and Phase 3 (lower priority, larger forest fuels reduction projects in more moderately forested and remote areas to reduce wildfire hazard in general and improve forest health). Each project as it is developed will follow certain planning steps that include formulating a plan of action that will identify and assess potential risks and environmental concerns and formulating a reasoned treatment plan. These plans will include facility and forest fire hazard assessment, identification of resource issues, coordination with neighboring land management agencies and land owners, development of end-state conditions, and formulation of treatment and environmental protection measures. Treatment measures will be identified for each project including the equipment and involved job performances, and types of treatment measures to be performed based on the forest and site conditions in the project area. Integral to treatment measures would be complementary measures to protect public health and welfare and to protect and enhance cultural and natural resources. Worker protection and health and safety measures, cultural resource protection measures, air quality protection measures, water quality protection measures, threatened and endangered species protection measures, as well as other biological resources protection measures would be employed on each project. Wood materials and wastes generated from the treatment activities would be disposed of as follows: wood materials will be donated or salvaged for use by the surrounding communities, or may be contracted for to offset program operational costs; wastes will be disposed of on-site by chipping and reuse as mulch, by burning within pits using air curtain destructor devices to enhance the burning process, or at on-site waste disposal facilities. Additionally, waste may be sent to off-site disposal facilities as well. Post-treatment assessments will be conducted for each project area that will include some or all of the following: end-state conditions assessment, fuel load inventories, ecological field studies, watershed assessment and monitoring, and data analysis and modeling. Maintenance measures would be implemented on project areas at least once every 5 years (or as necessary) to maintain the desired end-state conditions of the forests at LANL. These maintenance measures will include the type of treatment measures used to initially treat an area and may also include periodic mowing and the maintenance of access roads. NNSA may also consider the use of prescribed burning under very carefully controlled conditions in the future as a forest maintenance tool. However, at this time, DOE is still in the process of developing a complex-wide policy on prescribed burning and a moratorium on the use prescribed burning at DOE sites is in effect until the policy has been issued. NNSA will likely revisit this issue at a later time.

Additional information about wildfire hazard reduction projects can be found in the April 2001 document entitled Wildfire Hazard Reduction Project Plan (LA-UR-01-2017). Both DOE/EA 1329 and this plan are available by contacting Elizabeth Withers at (505) 667-8690, or writing to her at the previously identified Los Alamos Area Office address. These documents have also been placed electronically at: http://lib-www.lanl.gov/pubs/Environment.htm and in hard copy at the DOE Reading Rooms at: the Community Relations Office, Los Alamos National Laboratory, Los Alamos, NM 87545; and the Government Information Department, Zimmerman Library, University of New Mexico, Albuquerque, NM 87131-1466.

In accordance with DOE regulations for compliance with floodplain and wetlands environmental review requirements (10 CFR Part 1022), NNSA will prepare a floodplain assessment for this proposed action, which will be made available by contacting Elizabeth Withers at the previously identified addresses, phone and facsimile numbers. It will available electronically at: http://lib-www.lanl.gov/pubs/Environment.htm. After DOE issues the assessment, a floodplain statement of findings will be published in the Federal Register.

Issued in Los Alamos, New Mexico on June 25, 2001.
David A. Gurul,
Area Manager, U.S. Department of Energy, National Nuclear Security Administration Los Alamos Area Office.

[FR Doc. 01-16451 Filed 6-28-01; 8:45 am]

BILLING CODE 6450-01-P